DEPARTMENT OF ENERGY

10 CFR Part 431

[Docket No. EERE-2010-BT-STD-0043]

RIN 1904-AC36

Energy Conservation Program: Public Meeting and Availability of the Framework Document for High-Intensity Discharge Lamps

AGENCY: Office of Energy Efficiency and Renewable Energy, Department of Energy.

ACTION: Extension of public comment period.

SUMMARY: This document announces an extension of the time period for submitting comments on the Notice of Public Meeting (NOPM) and Availability of Framework Document Regarding Energy Conservation Standards for High-Intensity Discharge (HID) Lamps. The comment period is extended to April 12, 2012.

DATES: The comment period for the HID Lamps Framework NOPM published on February 28, 2012 at 77 FR 11785 is extended to April 12, 2012.

ADDRESSES: Any comments submitted must identify the request for information for set-top boxes and network equipment and provide docket number EERE-2010-BT-STD-0043 and/or RIN number 1904-AC36. Comments may be submitted using any of the following methods:

• Federal eRulemaking Portal: at http://www.regulations.gov. Follow the instructions for submitting comments.

• Email: to HIDLamps-2010-STD-0043@ee.doe.gov. Include EERE-2010-BT-STD-0043 in the subject line of the message.

• Mail: Ms. Brenda Edwards, U.S. Department of Energy, Building Technologies Program, Mailstop EE-2J, Request for Information for Set-top boxes and Network Equipment, EERE-2011-BT-NOA-0067, 1000 Independence Avenue SW., Washington, DC 20585-0121. Phone: (202) 586-2945. Please submit one signed paper original.

• Hand Delivery/Courier: Ms. Brenda Edwards, U.S. Department of Energy, Building Technologies Program, 6th Floor, 950 L'Enfant Plaza SW., Washington, DC 20024. Phone: (202) 586-2945. Please submit one signed paper original.

Docket: For access to the docket to read background documents, or comments received, go to the Federal eRulemaking Portal at http://www.regulations.gov.

FOR FURTHER INFORMATION CONTACT: Ms. Lucy deButts, U.S. Department of Energy, Office of Energy Efficiency and Renewable Energy, Building Technologies, EE-2J, 1000 Independence Avenue SW., Washington, DC 20585-0121. Telephone: (202) 287-1604. Email: lucy.debutts@ee.doe.gov.

Ms. Elizabeth Kohl, U.S. Department of Energy, Office of the General Counsel, GC-71, 1000 Independence Avenue SW., Washington, DC 20585-0121. Telephone: (202) 586-7796. Email: elizabeth.kohl@hq.doe.gov.

SUPPLEMENTARY INFORMATION: On February 28, 2012, the U.S. Department of Energy (DOE) published a notice of public meeting (NOPM) and availability of framework document for high-intensity discharge (HID) lamps, initiating the rulemaking and data collection process to consider establishing energy conservation standards (77 FR 11785). The NOPM requested public comment from interested parties and provided for the submission of comments by April 5, 2012. The National Electrical Manufacturers Association (NEMA), on behalf of itself and its members, requested an extension of the public comment period by one week. NEMA stated that the additional time is necessary to more fully evaluate and prepare the information requested in the NOPM. NEMA stated that the extension will allow NEMA to conduct necessary meetings before providing its comments.

Based on NEMA's request, DOE believes that extending the comment period to allow additional time for interested parties to prepare and submit comments is appropriate. Therefore, DOE is extending the comment period until April 12, 2012. Accordingly, DOE will consider any comments received by April 12, 2012 to be timely submitted.

Issued in Washington, DC, on March 23, 2012.
Patrick Davis,
Program Manager, Office of Vehicle Technologies, Energy Efficiency and Renewable Energy.

[FR Doc. 2012-7543 Filed 3-28-12; 8:45 am]

BILLING CODE 6450-01-P